FEDERAL COMMUNICATIONS COMMISSION

Notice of Public Information Collection(s) Being Reviewed by the Federal Communications Commission, Comments Requested

March 27, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 2, 2003. If you anticipate that you will be submitting comments, but find it difficult to do so within the period of time allowed by this notice, you should advise the contact listed below as soon as possible.

ADDRESSES: Direct all comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0168.

Title: Section 43.43, Reports of Proposed Changes in Depreciation Rates.

Form No.: N/A.

Type of Review: Extension of a currently approved collection.

Respondents: Business or other for-profit.

Number of Respondents: 10.

Estimated Time Per Response: 6,000 hours.

Frequency of Response: On occasion reporting requirement and recordkeeping requirement.

Total Annual Burden: 40,000 hours.

Total Annual Cost: N/A.

Needs and Uses: The Commission streamlined its depreciation prescription process by permitting summary filings and eliminating the prescription of depreciation rates for incumbent Local Exchange Carrier's (LECs), expanding the prescribed range for the digital switching plant account, and eliminating the theoretical reserve study requirement for mid-sized incumbent LECs. The Commission also established a waiver process whereby price cap incumbent LECs can free themselves of depreciation regulation. The Commission is submitting this information collection to OMB without any changes since the last approval and is seeking a three year clearance.

OMB Control No.: 3060-0233.

Title: Part 36, Separations.

Form No.: N/A.

Type of Review: Extension of a currently approved collection.

Respondents: Business or other for-profit and state, local or tribal government.

Number of Respondents: 1,500 respondents; 5,600 responses.

Estimated Time Per Response: 2-22 hours.

Frequency of Response: On occasion, annual and quarterly reporting requirements and third party disclosure requirement.

Total Annual Burden: 157,125 hours.

Total Annual Cost: N/A.

Needs and Uses: In order to all determination of the study areas that are entitled to an expense adjustment, and the wire centers that are entitled to support, each incumbent LEC must provide certain data to the National Exchange Carrier Association (NECA) annually and/or quarterly. State or local telephone companies who want to participate in the federal assistance program must make certain informational showings to demonstrate eligibility. The Commission is submitting this information collection to OMB without any changes since the last approval and is seeking a three year clearance.

OMB Control No.: 3060-0410.

Title: Forecast of Investment Usage Report and Actual Usage of Investment Report.

Form Nos.: FCC Forms 495A and 495B.

Type of Review: Extension of a currently approved collection.

Respondents: Business or other for-profit.

Number of Respondents: 150 respondents; 300 responses.

Estimated Time Per Response: 40 hours.

Frequency of Response: Annual reporting requirement.

Total Annual Burden: 12,000 hours.

Total Annual Cost: N/A.

Needs and Uses: The Forecast of Investment Usage and Actual Usage of Investment Reports are needed to detect and correct forecast errors that could lead to significant misallocation of network plant between regulated and non-regulated activities. The Commission's purpose is to protect the regulated ratepayer from subsidizing the non-regulated activities of rate regulated telephone companies. The Commission is submitting this information collection to OMB without any changes since the last approval and is seeking a three year clearance.

OMB Control No.: 3060-0931.

Title: Maritime Mobile Service Identity (MMSI).

Form Nos.: N/A.

Type of Review: Extension of a currently approved collection.

Respondents: Individuals or households, business or other for-profit, federal government.

Number of Respondents: 2,000.

Estimated Time Per Response: .50 hours.

Frequency of Response: On occasion reporting requirement, third party disclosure requirement.

Total Annual Burden: 1,000 hours.

Total Annual Cost: N/A.

Needs and Uses: This information collection is necessary to require owners of marine VHF radios with Digital Selective Calling (DSC) capability to register information such as name, address, type of vessel with a private entity issuing marine mobile service identities (MMSI). The information would be used by search and rescue personnel to identify vessels in distress and to select the proper rescue units and search methods. The information is used by the private entities to maintain a database used to provide information about the vessel owner in distress using marine VHF radios with DSC capability. If the collection were not conducted, the U.S. Coast Guard would not have access to this information which would increase the time needed to complete a search and rescue operation. The Commission is submitting this information collection to OMB without any changes since the last approval and is seeking a three year clearance.

OMB Control No.: 3060-0936.

Title: Sections 95.1215, Disclosure Policies and 95.1217, Labeling Requirements.

Form Nos.: N/A.

Type of Review: Extension of a currently approved collection.

Respondents: Business or other for-profit and not-for-profit institutions.

Number of Respondents: 20.

Estimated Time Per Response: 1 hour.

Frequency of Response: On occasion reporting requirement.

Total Annual Burden: 20 hours.

Total Annual Cost: N/A.

Needs and Uses: The information collections contained in sections 95.1215 and 95.1217 require manufacturers of transmitters for the Medical Implant Communications Service (MICS) to include with each transmitting device a statement regarding harmful interference and to label the device in a conspicuous location on the device. The requirements will allow use of potential life-saving medical technology without causing interference to other users of the 402-405 MHz band. The Commission is submitting this information collection to OMB without any changes since the last approval and is seeking a three year clearance.

Federal Communications Commission.
Marlene H. Dortch,
Secretary.

[FR Doc. 03-7881 Filed 4-1-03; 8:45 am]

BILLING CODE 6712-01-P